SECURITIES AND EXCHANGE COMMISSION

[File No. 500-1]

Data Fortress Systems Group Ltd., Digital Youth Network Corp., Fantom Technologies, Inc., and KIK Technology International, Inc., Order of Suspension of Trading

May 12, 2011.

It appears to the Securities and Exchange Commission that there is a lack of current and accurate information concerning the securities of Data Fortress Systems Group Ltd. because it has not filed any periodic reports since the period ended June 30, 2002.

It appears to the Securities and Exchange Commission that there is a lack of current and accurate information concerning the securities of Digital Youth Network Corp. because it has not filed any periodic reports since the period ended May 31, 2006.

It appears to the Securities and Exchange Commission that there is a lack of current and accurate information concerning the securities of Fantom Technologies Inc. because it has not filed any periodic reports since the period ended June 30, 2000.

It appears to the Securities and Exchange Commission that there is a lack of current and accurate information concerning the securities of KIK Technology International, Inc. because it has not filed any periodic reports since the period ended January 31, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on May 12, 2011 and terminating at 11:59 p.m. EDT on May 25, 2011.

By the Commission.
Jill M. Peterson,
Assistant Secretary.

[FR Doc. 2011-12092 Filed 5-12-11; 4:15 pm]

BILLING CODE 8011-01-P